UNIFIED CARRIER REGISTRATION PLAN

Sunshine Act Meetings

TIME AND DATE: November 3, 2022, 12:00 p.m. to 2:00 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 970 7034 2913, to listen and participate in this meeting. The website to participate via Zoom Meeting and Screenshare is https://kellen.zoom.us/meeting/register/tJMtcOmrqjkjG9cEqwF5TiaK9zDVwh0Km7e4.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—UCR Audit Subcommittee Chair

The UCR Audit Subcommittee Chair will welcome attendees, call the meeting to order, call roll for the Audit Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Audit Subcommittee Chair

For Discussion and Possible Audit Subcommittee Action

The agenda will be reviewed, and the Subcommittee will consider adoption.

Ground Rules

➢ Subcommittee action only to be taken in designated areas on the agenda.

IV. Review and Approval of Subcommittee Minutes From the September 8, 2022 Meeting—UCR Audit Subcommittee Chair

For Discussion and Possible Subcommittee Action

Draft minutes from the September 8, 2022 Subcommittee meeting via teleconference will be reviewed. The Subcommittee will consider action to approve.

V. Review the Compliance Evaluation Tools for the Annual State Audit Progress Report—UCR Audit Subcommittee Chair

The UCR Audit Subcommittee Chair will discuss the recently adopted evaluation tools for the participating states' audit programs that are currently required by the UCR Agreement.

VI. Discuss Options for DSL Transportation Services, Inc. (DSL) to Close Out FARs in the National Registration System (NRS) on Behalf of the States Once the Motor Carrier Makes the Appropriate Adjustment—UCR Audit Subcommittee Chair, UCR Audit Subcommittee Vice-Chair and DSL Transportation Services, Inc. (DSL)

The UCR Audit Subcommittee Chair, Vice-Chair and DSL Representative will provide an update on how this service is working with the non-participating States Focused Anomaly Reviews (FARs.)

VII. Review Recent Updates to the UCR Handbook—UCR Audit Subcommittee Chair, UCR Executive Director

The UCR Audit Subcommittee Chair and UCR Executive Director will lead a discussion on updating and clarifying the language in the UCR Handbook in regard to the usage of the term “operated” as it relates to a motor carrier beginning operations. A general update on other revisions to the UCR Handbook will also be provided.

VIII. Update on the State Compliance Review Program—UCR Audit Subcommittee Chair

The UCR Audit Subcommittee Chair and Contractors will lead discussion on program objectives and states scheduled for review in 2022.

IX. Maximizing the Value of the Should Have Been (SHB) and Enforcement Efficiency Tools—UCR Audit Subcommittee Chair, UCR Audit Subcommittee Vice-Chair and DSL Transportation Services, Inc. (DSL)

The UCR Audit Subcommittee Chair, Vice-Chair and DSL will provide an update on the value achieved by utilizing Shadow MCMIS and other tools in the NRS. The discussion will highlight the financial value to the states of vetting businesses for UCR compliance, Commercial registration, IFTA, intrastate, and interstate Operating Authority.

X. Discuss Options for Future Audit Zoom Training Sessions for States Auditors—UCR Audit Subcommittee Chair

The UCR Audit Subcommittee Chair, UCR Audit Subcommittee Vice-Chair, DSL and Kellen representatives will lead a discussion regarding the value of a series of 30-minute virtual audit training sessions.

XI. Discuss Options for Hosting a Monthly Question and Answer Session for States Auditors—UCR Audit Subcommittee Chair and UCR Audit Subcommittee Vice-Chair

The UCR Audit Subcommittee Chair and UCR Audit Subcommittee Vice-Chair will lead a discussion regarding the value of a series of 60-minute virtual question and answer sessions.

XII. Discuss Future Audit Subcommittee Meetings—UCR Audit Subcommittee Chair and UCR Audit Subcommittee Vice-Chair

The UCR Audit Subcommittee Chair and Vice-Chair will lead discussion regarding virtual and in person meetings.

XIII. Other Items—UCR Audit Subcommittee Chair

The UCR Audit Subcommittee Chair will call for any other items Subcommittee members would like to discuss.

XIV. Adjournment—UCR Audit Subcommittee Chair

The UCR Audit Subcommittee Chair will adjourn the meeting.

The agenda will be available no later than 5:00 p.m. Eastern time, October 26, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-23632 Filed 10-26-22; 4:15 pm]

BILLING CODE 4910-YL-P